INTERNATIONAL TRADE COMMISSION

[Investigation No. 731-TA-919 (Third Review)]

Certain Welded Large Diameter Line Pipe From Japan

Determination

On the basis of the record ¹ developed in the subject five-year review, the United States International Trade Commission (“Commission”) determines, pursuant to the Tariff Act of 1930 (“the Act”), that revocation of the antidumping duty order on certain welded large diameter line pipe from Japan would be likely to lead to continuation or recurrence of material injury to an industry in the United States within a reasonably foreseeable time.²

¹ The record is defined in sec. 207.2(f) of the Commission's Rules of Practice and Procedure (19 CFR 207.2(f)).

² Commissioners Randolph J. Stayin and Amy A. Karpel did not participate.

Background

The Commission, pursuant to section 751(c) of the Act (19 U.S.C. 1675(c)), instituted this review on September 4, 2018 (83 FR 44900) and determined on December 10, 2018 that it would conduct a full review (83 FR 65361, December 20, 2018). Notice of the scheduling of the Commission's full review and of a public hearing to be held in connection therewith was given by posting copies of the notice in the Office of the Secretary, U.S. International Trade Commission, Washington, DC, and by publishing the notice in the Federal Register on April 22, 2019 (84 FR 16694). The hearing was held in Washington, DC, on July 30, 2019 and all persons who requested the opportunity were permitted to appear in person or by counsel.

The Commission made this determination pursuant to section 751(c) of the Act (19 U.S.C. 1675(c)). It completed and filed its determination in this review on September 30, 2019. The views of the Commission are contained in USITC Publication 4973 (September 2019), entitled Certain Welded Large Diameter Line Pipe from Japan: Investigation No. 731-TA-919 (Third Review).

By order of the Commission.
Dated: September 30, 2019.
Lisa Barton,
Secretary to the Commission.

[FR Doc. 2019-21563 Filed 10-2-19; 8:45 am]

BILLING CODE 7020-02-P